DEPARTMENT OF ENERGY

10 CFR Part 431

[Docket No. EERE-2014-BT-STD-0005]

RIN 1904-AD15

Energy Conservation Program: Energy Conservation Standards for Residential Conventional Cooking Products

AGENCY: Office of Energy Efficiency and Renewable Energy, Department of Energy.

ACTION: Extension of public comment period.

SUMMARY: This document announces an extension of the time period for submitting comments on the request for information document regarding whether to amend the current energy conservation standards for residential conventional cooking products. The comment period is extended to April 14, 2014.

DATES: The comment period for the request for information document regarding energy conservation standards for residential conventional cooking products published on February 12, 2014 (79 FR 8337) is extended to April 14, 2014.

ADDRESSES: Any comments submitted must identify the request for information for standards for residential conventional cooking products and provide docket number EERE-2014-BT-STD-0005 and/or Regulation Identification Number (RIN) 1904-AD15 by any of the following methods:

• Federal eRulemaking Portal: http://www.regulations.gov. Follow the instructions for submitting comments.

• Email: ConventionalCookingProducts2014STD0005@ee.doe.gov Include the docket number EERE-2014-BT-STD-0005 and/or RIN 1904-AD15 in the subject line of the message.

• Mail: Ms. Brenda Edwards, U.S. Department of Energy, Building Technologies Office, Mailstop EE-5B, 1000 Independence Avenue SW., Washington, DC 20585-0121. If possible, please submit all items on a compact disc (CD), in which case it is not necessary to include printed copies. [Please note that comments and CDs sent by mail are often delayed and may be damaged by mail screening processes.]

• Hand Delivery/Courier: Ms. Brenda Edwards, U.S. Department of Energy, Building Technologies Program, 950 L'Enfant Plaza, SW., Suite 600, Washington, DC 20024. Telephone (202) 586-2945. If possible, please submit all items on CD, in which case it is not necessary to include printed copies.

Docket: The docket is available for review at www.regulations.gov, including Federal Register notices, framework documents, public meeting attendee lists and transcripts, comments, and other supporting documents/materials. All documents in the docket are listed in the www.regulations.gov index. However, not all documents listed in the index may be publicly available, such as information that is exempt from public disclosure.

FOR FURTHER INFORMATION CONTACT:

Mr. John Cymbalsky U.S. Department of Energy, Office of Energy Efficiency and Renewable Energy, Building Technologies Office, EE-5B, 1000 Independence Avenue SW., Washington, DC 20585-0121. Telephone: (202) 287-1692. Email: kitchen_ranges_and_ovens@ee.doe.gov.

Ms. Celia Sher, U.S. Department of Energy, Office of the General Counsel, GC-71, 1000 Independence Avenue SW., Washington, DC 20585-0121. Telephone: (202) 287-6122. Email: Celia.Sher@hq.doe.gov.

SUPPLEMENTARY INFORMATION: On February 12, 2014, the U.S. Department of Energy (DOE) published a request for information (RFI) and notice of document availability document in the Federal Register (79 FR 8337) initiating the rulemaking and data collection process to consider new and amended energy conservation standards for products included in the definition of conventional cooking products. The RFI requested public comment from interested parties regarding specific as well as general questions and provided for the submission of comments by March 14, 2014. Thereafter, the Association of Home Appliance Manufacturers (AHAM) requested that DOE extend the comment period by 30 days. AHAM stated that the additional time is necessary in order to allow for review of and substantive comment on the significant questions to which DOE is seeking response.

Based on AHAM's request, DOE believes that extending the comment period to allow additional time for interested parties to submit comments is appropriate. Therefore, DOE is extending the comment period until April 14, 2014 to provide interested parties additional time to prepare and submit comments. Accordingly, DOE will consider any comments received by April 14, 2014 to be timely submitted.

Issued in Washington, DC, on February 26, 2014.
Kathleen B. Hogan,
Deputy Assistant Secretary for Energy Efficiency, Energy Efficiency and Renewable Energy.

[FR Doc. 2014-04646 Filed 2-28-14; 8:45 am]

BILLING CODE 6450-01-P